SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995, 44 U.S.C Chapter 35 requires federal agencies to publish a notice in the Federal Register concerning each proposed collection of information before submission to OMB, and to allow 60 days for public comment in response to the notice. This notice complies with that requirement.

DATES: Submit comments on or before June 17, 2014.

ADDRESSES: Send all comments to Dianna Seaborn, Chief, 7(a) Policy and Program Branch, Office of Financial Assistance, Small Business Administration, 409 3rd Street, 8th Floor, Washington, DC 20416.

FOR FURTHER INFORMATION CONTACT: Dianna Seaborn, Chief, 7(a) Policy and Programs Branch 202-205-3645, Dianna.seaborn@sba.gov, or Curtis B. Rich, Management Analyst, 202-205-7030, curtis.rich@sba.gov.

SUPPLEMENTARY INFORMATION: For SBA Financial assistance programs, information regarding the assets and liabilities of certain owners, officers and guarantors of the small business applicant benefiting from such assistance is used when analyzing the applicant's repayment abilities or creditworthiness. The information is also collected from applicants and participants in SBA's 8a/BD program to determine whether they meet the economic disadvantage requirements of the program.

Solicitation of Public Comments: SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection: (1) Title: Personal Financial Statement

Description of Respondents: 7(a) loan program, 504 loan program, disaster, and 8(a) BD program.

Form Number: SBA Form 413

Total Estimated Annual Responses: 44,588

Total Estimated Annual Hour Burden: 66,882

Curtis B. Rich,
Management Analyst.

[FR Doc. 2014-08891 Filed 4-17-14; 8:45 am]

BILLING CODE 8025-01-P